DEPARTMENT OF THE INTERIOR

Bureau of Land Management

[LLCAD01000.L13400000.DO0000.19X) MO#4500121894]

Notice of Availability of the Draft Supplemental Environmental Impact Statement for the Haiwee Geothermal Leasing Area, California, and the Proposed Amendment to the California Desert Conservation Area Plan

AGENCY: Bureau of Land Management, Interior.

ACTION: Notice of availability.

SUMMARY: In accordance with the National Environmental Policy Act of 1969, as amended, and the Federal Land Policy and Management Act of 1976, as amended (FLPMA), the Bureau of Land Management (BLM) has prepared a Draft Amendment to the California Desert Conservation Area (CDCA) Plan and a Draft Supplemental Environmental Impact Statement (EIS) for the Haiwee Geothermal Leasing Area (HGLA), Inyo County, California, and is announcing the opening of the comment period. In order to comply with Federal regulations, the BLM is also announcing a comment period on changes to the management of four Areas of Critical Environmental Concern within the HGLA.

DATES: To ensure that all comments will be considered, the BLM must receive written comments on the Draft CDCA Plan Amendment and Draft Supplemental EIS within 90 days following the date the Environmental Protection Agency publishes its Notice of Availability in the Federal Register. The BLM will announce future meetings or hearings and any other public involvement activities at least 15 days in advance through public notices, media releases, and/or mailings.

ADDRESSES: The HGLA Draft CDCA Plan Amendment and Draft Supplemental EIS are available on the BLM ePlanning project website at https://go.usa.gov/xEnvy. Click the “Documents” link on the left side of the screen to find the electronic version of these materials. Hard copies of the Draft CDCA Plan Amendment and Draft Supplemental EIS are also available for public inspection at the BLM, California Desert District Office, 22835 Calle San Juan De Los Lagos, Moreno Valley, CA 92553.

You may submit comments related to the HGLA by any of the following methods:

• Website: https://go.usa.gov/xEnvy

• Email: BLM_CA_CD_Haiwee_Geothermal@blm.gov.

• Mail: Haiwee Geothermal Leasing Project, c/o Greg Miller, 22835 Calle San Juan De Los Lagos, Moreno Valley, CA 92553.

• Fax: 951-697-5299.

FOR FURTHER INFORMATION CONTACT: Greg Miller, Deputy District Manager—Resources via telephone at (951) 697-5216; or via mail at 22835 Calle San Juan De Los Lagos, Moreno Valley, CA 92553; or via email at gmiller@blm.gov. Persons who use a telecommunications device for the deaf (TDD) may call the Federal Relay Service (FRS) at 1-800-877-8339 to contact Mr. Miller during normal business hours. FRS is available 24 hours a day, 7 days a week, to leave a message or question. You will receive a reply during normal business hours.

SUPPLEMENTARY INFORMATION: The BLM published the HGLA Draft EIS and Draft Proposed Amendment to the CDCA in the Federal Register on May 10, 2012 (77 FR 27478) and held public meetings in June 2012. The BLM prepared an Administrative Draft Final EIS in December 2013 that included public comments and responses to comments, updates to the alternatives descriptions, and internal review comments. As a result of the review of the comments, the BLM conducted a more detailed study to address projected water use by geothermal facilities should they be allowed in the HGLA. Argonne National Laboratories conducted the study and provided BLM a report in January 2016. Additionally, new land use designations approved with the Desert Renewable Energy Conservation Plan Amendment to the CDCA Plan in September of 2016 required analysis of a new alternative that considered the new land use designations. Based on these two developments, the BLM has prepared a CDCA Plan Amendment and Draft Supplemental EIS for the project. This new alternative would make Federal lands available for geothermal exploration, development, and utilization, within the entire HGLA.

The BLM received three geothermal lease applications for 4,460 acres of public land within the HGLA. In addition, the BLM identified approximately 18,345 acres of public lands, also within the Haiwee Proposed Project Area and adjacent to the three geothermal lease applications, which will be considered for competitive geothermal leasing under 43 CFR 3203.10(e). The proposed action is to amend the CDCA Plan to allow project-area lands to be leased under the authority of the Geothermal Steam Act of 1970, as amended (30 U.S.C. 1001 et seq.) The leasing of public lands for geothermal resources will require an amendment to the CDCA Plan, which is authorized by the FLPMA, Section 202 (43 U.S.C. 1712) and 43 CFR 1610.5-5. Total acreage being considered for geothermal leasing is approximately 22,805 acres.

Please note that public comments and information submitted including names, street addresses, and email addresses of persons who submit comments will be available for public review and disclosure at the address listed earlier during regular business hours (8 a.m. to 4 p.m.), Monday through Friday, except holidays.

Before including your address, phone number, email address, or other personally identifiable information in your comment, you should be aware that your entire comment—including your personally identifiable information—may be made publicly available at any time. While you can ask us in your comment to withhold your personally identifiable information from public review, we cannot guarantee that we will be able to do so.

Authority: 40 CFR 1501.7 and 43 CFR 1610.2.

Danielle K. Chi,
BLM California Deputy State Director, Natural Resources, Planning and Fire.

[FR Doc. 2019-08846 Filed 5-2-19; 8:45 am]

BILLING CODE 4310-HC-P